DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending September 30, 2013. For purposes of this listing, long-term residents, as defined in section 877(e)(2), are treated as if they were citizens of the United States who lost citizenship.

Last name | First name | Middle name/initials
ABRAHAM | RUTHIE |
ADAMS | CAROLINE | FRANCES
ADAMS | LAWRENCE | BRUCE
AIERS | RODGER | CHARLES
AL RAIS | AHMED | SALIM
ALBRECHT-FENNER | SOPHIE | VIOLETTE
ALEXANDER | RICHARD | FRANCIS
ALFARO | LAURY | MELO
ALLAMON | MARCUS | MANFRED
AMEMIYA | SATOSHI |
AMUNDRUD | RYAN | MICHAEL
ARESON JR | WILLIAM | HENRY
ARLETTE | DEBRA | JOANNA
ATTIEH | DINA | NASSAR
AWAD | CHARLES |
BACARES | ANGELA | MARIA
BACHMANN | ANDREW | GREGORY
BAKER | ANGELA | CATHLEEN
BALFOUR-LYNN | JAKE | STANLEY
BALFOUR-LYNN | JESSIE | NANNETTE
BALFOUR-LYNN | LESLIE |
BALLMER | YVONNE | MARION
BANDY | TIMOTHY | JOHN
BARBAKOFF | MICHAEL | HERBERT
BARON | LISA |
BATAILLON | MARC | ALAIN ROBERT
BAUREITHEL | KARL | HERBERT
BEECHING | SUSAN | MARIE
BENNETT | SUSAN | JANE
BERAHA | ALBERTO |
BERAHA | BELLA | CAROLINA
BERAHA | JANETTE |
BERSON | SIDONIE | LIZA
BESEN | JOAN | LORI
BLIER | MARVIN |
BODDEN | BARRY | JAY
BOESCH | MICHAEL | RUDOLF
BOHAN | CHRISTOPHER | THOMAS
BOLDRY | ISABELLA | MARIA
BOLDRY | JAMES | PATRICK
BOSTON | CHERYL | BANDOLON
BOUCHAL | HEIDI | ANNA
BOURQUIN | DOROTHY | LOOMIS
BRADLEY | JASON | PAUL
BREITENBERGER | KEVIN | SAMUEL
BROWN | PATRICK | EUGENE
BURCKHARDT | SIMONE | FRANCOISE RENEE
BURNS | BRENDAN | ROBERT
BUTT | ROBERT | CRAIG
CAIRNS | JILL | LARRAINE`
CALABRESE | JEFFREY | ALAN
CALE | JANE | ELIZABETH
CAMPBELL | ALISON | MAC LEAN
CANTATORE | ANTHONY | JOSEPH
CAPREZ | FELIX |
CARIGIET | DANIEL | EDWARD SCHWARZ
CARR-HARRIS | MADELINE | MARGUERITE
CARROLL | CHRISTOPHER | ROBERT
CASTINO | ANTHONY | ALBERT
CECIL | LEONARD | JAY
CHALIFOUR | JOSHUA | ERIC
CHAN | BENNY | KIN KEUNG
CHAN | CECIL | TAT CHEONG
CHAN | CHRISTINE | WAI-YIN
CHAN | SOPHIA | SAU-FONG
CHAN | TERESA |
CHANDARIA | JAI | NAVINCHANDRA
CHANG | LISA | MEE YUN
CHAPMAN | PAUL | FREDERICK JAMES
CHASSOT | YOANN | YVES EMILE
CHATILA | SAMI | WALID
CHEN | JOHNNY |
CHEUNG | ANTONY | HOI KIT
CHIDAMBARAM | RAVI |
CHILLAK | ALEXANDER | CONNELL
CHIN | SUNG | SUP
CHIU | JENNIFER | WENDY
CHOE | SUNG | JAY
CHOI | HYUN | JIN
CHU | WALTER |
CIPRIANO | KATHY | ANN
CLARK | BARRY | NEWTON
CLARKE | ROBERT |
CLOSE | DIANE | FREDERIQUE
COHEN | LESLIE |
CORNELL | LAURA | MARIA
CORNISH | NATALIE | ROSLYN
CRAMER | SHIRLEY | CHRISTINE
CROSS | DANIELLE | ANN
CROXFORD | RUTH |
CRYDERMAN | TERRI | ALAYNE
CUNNINGHAM III | JOHN | ANDREW
CURRAT-SCHLEGEL | VIRGINIA | E
DABBAH | ALBERT | ABRAHAM
DALE | ROSEMARY | ELIZABETH
DANISCH | CHARLOTTE | ROSE
DASWANI | DINISHA | DEEPAK
DAVIS | JOHN | ALAN
DAVOCK | PAUL | WHITING
DE BETHMANN | ELEONORE | VERONIQUE
DE CASTILLERO | ANNA | LISA SIMONS
DE LA VALETTE | MICHEL | PARISOT
DE LANDA | ALFONSO | BEAUMONT
DE MORARI | MICHAEL | FRANZ NOBILE
DE POIX | TIMOTHEE | ANATOLE
DE REUS | DARYL | CORNELIS
DE SAINT PIERRE | EDOUARD | A.M. DE MEHERENC
DE SIMONS | MARILYN | EDWINA
DEPEW | MARK | ANDREW
DIMENSTEIN | CAROLYNE | ANNE
DINSLEY | PATRICIA | BEATA
DIONNE | GERALYNE | BERNADETTE
DISSINGER | WALTER | HERBERT
DOIRON | DENISE |
DONALDSON | ROBERT | WILLIAM
DOYLE | JOHN | GERARD
DREGER | TRUDY | CHARLOTTE ATRENS
DUCEY | KATHERINE | ELIZABETH
EGLINGTON | THOR |
EKHOLM | IAN | JACK
EL FITURI | MARY | CECILIA RITA
EL HADJ | MARGARET | MARY
EL HADJ | SARAH | JANE
ELDER | ADRIENNE | E
ELWES | CLARE | HANNON
ENEBERG | MICHAEL |
ERVINE | CHRISTINE | JEAN
EVANS | JONATHON | EDWARD
FALK | ARTHUR | OSORIO FERRAZ
FALK | JOSE | LUIZ FERRAZ
FALK | VALENTINA | FERRAZ
FEUSI-SPOENDLIN | CATHERINE | ANNE
FILHO | ROBERTO | MAX HERMANN
FLINTOFT | JAMES | ANTHONY
FOLLIET | LIN | WANG
FONG | GREGORY |
FORD-JEBSEN | DANIEL | P
FORDSCHMID | LIVIUS |
FOUGNER | ERIK | SIGURD
FRERKS | CLAUDIA |
FRIEDLANDER | ROBERT | MAX
FRIESEN | KATHLEEN | ELLEN
FUKUNAGA | MIWA |
FULLER | NICHOLAS | ALAN
FULLER | NICHOLAS | LAWRENCE
FULLER | ROBERT | STEVENS
FURRER | DONNA | DEE
GEIGER | KURT | BEREN
GEWELBE | MICHELE | MELISSA
GILBORSON | MARY | TATE
GILLAM | DIANA | ECHLIN
GOLDSTEIN | DANIEL | MOSHE
GORDON | ASHELY | J
GORDON | GLENN | LEWIS
GOTTRON | ANTHONY | KU YU XIANG
GOTTSCHALK JR | JOHN | WOLFE
GRAHAM | SHARON | JEAN
GRAMOLINI | GLENN | RICHARD
GRANDI | VITTORIO | MARCO
GRANLUND | LAURIE | KAY
GRAY | JOHN | BRADLEY
GREINER | OTTO | HERMANN
GRIEDER | SAMUEL |
GRIFFITHS | CHRISTOPHER | JOHN
GROELLER | ENRICA | CARLOTTA
HAJJAR | SOUHEIL | JEAN
HALL | HAPPY | MACNAIR
HANDEL | LEE |
HARDACRE | LAURA | JANICE
HAROUCHE | MICHEL | SALOMON
HARRINGTON | JULIE | PFEIFFER
HARTMANN | MICHAEL | ISAAC
HARWELL | JOHN | CECIL
HAYDEN | DANIEL | MARKUS
HEIDRICH | ERNA | ELIZABETH
HEINRICH | LARRY | ELMER
HERMANS | REGINA | HELMS
HESSER | NADJA | LYNN
HIFLER | MATTHIAS | ROLAND
HILAL | FRANCINE | SALOME
HILAL | HENRI | SAMI
HILBER | ROSEMARIE | KLARA
HILTON | BEVERLY | DALLEN
HIROTA | RIKAKO |
HITTLER | CHRISHANTHI | KURUPPU
HO | KENT | CHING-TAK
HO | MICHELLE | CHUI PENG
HO | WEI | LUN ALIKA
HOEHN | THOMAS | ALFRED
HOFFMANN | GEORGE | ALBERT ALLEN
HOFTON | DAVID | CHARLES
HOLBORN | CYNTHIA | MARIE
HOLLAND | WILLIAM | JOSEPH
HOMBERGER | CHARLES | MICHAEL
HOMSANY | AMALIA | AMY
HONEGGER | HEINRICH | DAVID
HONG | HEI-WEON |
HOOD | JAMES | ALEXANDER STUART TATE
HOOGE | CHRISTINE | FRANCES
HOSOE | MEGURU |
HOU | JASON |
HOWARD | ALICIA | MICHELLE
HUDSWELL | AARON | JOHN
HUI | GLENN | KWOK HUNG
HUNTER | CHRISTIAN | MANSFIELD
HUSZAR | DANGUOLE | MARIA
INOUE | SHINJI |
ISHERWOOD | STEPHANIE | JANE
IZUMI | EIJIRO |
JAMES | DOROTHY | J
JEBSEN | ALEXANDRA | NINI FORD
JENNISON | TERRI | LYNN
JEOUNG | MYOUNG | SU
JOHNS | JOSEPH | FRANCIS
JONES | HENRY | LEE
JORDAN | DAVID | MAYNARD
JOSHI | DEVANAND | PHILLIP D
JOWITT | ALICE | VICTORIA
JU | TINA | LIN CHI
KALLIO | MICHELE | FRANCES
KANAAN | GEORGES | ELIAS
KATSIKAKIS | DESPINA |
KAWASHIMA | NANAMI |
KELLER | PHILIP | STEPHEN
KELLER | TOBIAS | PETER
KEUNG | JANICE | YUN YEE
KIM | DAN | NAMHYUNG
KIM | JOHN | HOON
KIM | JOONGI |
KIM | KYUNG | KEUN
KIM | YOUNG | KEUN
KINDSCHI | NADIA |
KING | KATHERINE | CLARE CONSTANCE
KING | WILLIAM |
KIRCHHOFF | TILMAN | LEANDER
KISSMANN | EDNA |
KLAWITTER | KLAUS | MICHAEL
KLEIN | WENDY | TARLETON
KLOSTER | STEPHEN | CLAIR
KNAPP | WERNER | HEINZ
KNOTT | MURDOCH | NAIRN DIMSDALE
KOCH | REMY |
KOENZ | JON | CHRISTIAN
KOERNER | SIGRID | ANNA GUNHILD
KOHLER | ALF |
KOLT | ANDREAS | ERNST DIETER
KOMOR | JOHN | GEORGE
KONDO | YASUO | MICHAEL
KOO | REGINA | LI KWAN
KOOK | ERICA | MINJUNG
KOPPER | ENID | F.
KOTHE | DANIELLE | LEIGH
KOTHE | KEITH | ROBERT
KOTHE | SHERRY | ANN
KOURNIOTIS | EVDOKIA | JOANNE
KRASTEL-NICHOLS | HELGA | IRMA
KREISELMEYER | MARTHA | MARIA
KRUSELL | PETER | KARL
KUBLIN | JOYCE | ARLENE
KUSTER | JANINE | LYNN
KWAN | MICHAEL |
KWON | SUE | JA
KYRES | FLORENCE | JAIME
LADNER | DANIELLE | MICHELLE GAUTHEY
LAESSER-AUGSBUGGER | STEPHANIE | CATHARINA
LAM | WOON | LING MARY
LARSEN | CHRISTEN | NIELS REED
LAVISH III | EDWARD | CHARLES
LAWRIE | KAREN | VICTORIA
LAWTON | MICHAEL | HARLEY
LEBENS | TIMOTHY | DENNIS FREDERICK
LEE | EUGENE |
LEE | ISABEL | JUDITH
LEE | JAMES | SHING HIN
LEE | JUNWOO |
LEE | KAR | HO
LEE | KAR | WAI
LEE | MAN | CHIU
LEE | PAO-CHU |
LEE | SHU | YIN
LEE | SUSIE | YUN
LEE | VIOLET | WAI-SHEUNG
LEE | WOO | SONG
LEMASS | RORY | DONAGH
LENDENMANN | LARA | MARGARET
LEODOLTER-ETTER | GABRIELLA | MONICA
LEUNG | CLAIRE | HUII YIN
LEUNG | ERIC | CHI KONG
LEUNG | SUE-ANNE | TEAN
LEWINTON | PETER | CHARLES
LI | GABRIEL |
LI | MUHENG |
LIANG | MELISSA | SHIH YEE
LIAO | YI | JIE
LIEU | KETTY | CHIA ROO
LIGHTBOURE | MARTHA | RACHEL
LIM | YOUNG | GI
LIN | VINCENT | MING SHENG
LINDENER | MARGO |
LINDSAY | FAY | ELIZABETH
LIU | FRANK | CHI-JEN
LIU | JEREMY |
LO | SANDRA | JEAN
LOEW | TANJA | JANINE
LOKOSCHEK | DIETER |
LOOK | CAROLYNN | LOUISE ALINA
LUKAC | MATE |
LUNDIN | AXEL | LUKAS
LUNDIN | JENNA | ALEXANDRA
LUNDY-MORTIMER | MITCHELL | JAMES DARIO
LUTZ | JANET | JOHNSON
LYNESS | CAROL | ANN GIANNOTTA
LYNESS | JEFFREY | GIANNOTTA
LYNESS | ROBERT | ARTHUR
MAC DONALD | JACQUELINE | ROSE
MAEDER | PETER | CHARLES
MAK | ALFRED | YUN-TIN
MARCHI | MARIA | ANGELA
MARSH | ANNE | NEILA
MARTIN | DORIS | YVONNE
MAYR | AMELI | JUTTA
MAZE | JACK | R
MC ARTHUR | SARAH | GRACE
MC COLLOR | DOUGLAS | CLAYTON
MC DOUGAL | ELLEN |
MC MINN | NEAL | JAMES
MCPHERSON | CINDY | CRAWFORD
MECHLER-KETCHEDJIAN | JACQUELINE | ISABELLE
MEIER | ANDREA | NICOLE VETTER
MEIREN | ROELAND | M A VANDER
MELO | CARL | GUSTAF EMIL SIMONS
MERCIER | LORI | ANN
MIESENBOECK | GERO | ANDREAS
MILLAR | DAVID | ALEXANDER
MILLER | DANIEL | OWEN
MINDELL | ROBIN | KNIGHT
MINEA | CRAIG | JEFFERY
MIRKOVITCH | JOVANKA |
MIRO | LUCIANA | MARIA
MISSICK | AKIERRA | MARY DEANNE
MITCHEL | SCOTT | ALAN
MIYAZAKI | YUKA | THERESA
MOCK | DAVID | LAWRENCE
MOK | BENJAMIN | SIU YAU
MOLTZ | DAVID | FRANK
MOORE | JOHN | DOUGLAS
MORICONI-HAAS | MARIA | ANTONIETTA
MORLEY | SARAH | MARION
MORRISON | ROBERT | HARRY
MOSER | CHRISTINE | CLAIRE
MOSS | PARKER | DAVID
MUI | NATHANIEL | HIN TSUN
MULLIN | DANIEL | FRANCIS
MUNGER DE VRIES | DENISE | HELEN
MURPHY | JAMES | RICHARD
MUSTER JR | VASILIJE | DUSAN
NAIMI | RAMI | KHALIL
NAIRAC | JANE | F M
NAM | EDWARD |
NASSBERG | BARRY | DAVID
NELSON | BRANDON | ALVIN
NEWHOUSE | MEGAN | MIREILLE
NEWMAN | SILVIA | FABIANI
NG | JASON | ZHONGYU
NGUY | JOO | TIAN
NIELSEN | ROBERT | BOLLINGER
NIGG | THOMAS | JAMES
OLSEN | ARNE |
ONG | EILEEN | TERESA
ORAN | MARSHALL | CHANNING
ORBAN | AURELIA | FLORENCE
O'ROURKE | SHAWN | FRANCIS
OSTWALD | ADAM | HENRY
OZBURN | MATTHEW | ROBERT
PALMER | HENRY | JOCELYN
PALMER | ISABELLA | SPRING
PANG | FUSHING |
PANG | LEMING | CHANG
PAPOYANS | EDWIN |
PARK | EUN | SOOK
PARK | JEONG | HUN
PARK | SEUNG | KWAN
PARK | SUZANNE | HAN
PARKER | ROBERT | BURNS
PARKER | SHAWN | DAVID
PARSER | JESSICA | ANN
PATTEE | SHARON | JILL
PATTEN | DANIEL | CLENDENIN
PEARSON | JOYCE | ARLENE
PEIL | MICHAEL | NELSON
PEREZ-BALLADARES | MARIO | ERNESTO
PETER | HENRY | MARTIN
PFLUGER | SARINA | PETRA
PHILPOTT | ALISON | JULIE
PIETERSE | AIMO | WILLEM
POPE | CHARLES | ALBERT
POYSTI | NATHANAEL | NICOLAI
PRICE | MARK | ROBIN
PRIESTLE JR | JOHN | PETER
PRINS | VINCENT | RIENTS
PROTT | CINDY | DIANE
RACE | SUZANNE | MARIE
RAPPO | VINCENT | LUCIEN JOSEPH
RATNAM | JACINTA |
REDMON | JENNIFER | ELIZABETH
RENOLD | WALTER |
REUSSER | CHRISTOPH | MATTHIAS
RHEE | TAEHWAN | JOHN
RHODES | ANITA | JEANNE
RHODES | CHARLES | SCHUMANN
RIADY | STEPHANIE |
RICHARDSON | VERA |
RIEDER | KURT | ERNST
RIGGS | JENNY | LOUISE LEIBUNDGUT
RIMELL | ALISON | JANE
RIVERA | MARCEL | RICHARD
ROBERTSON | SUMMER |
RODRIGUEZ | JOSEPH | BRUCE
ROGERS | ERIC | COY
ROGERS | HUNTER | WESLEY
ROGERS | PAUL | BRIAN
ROHNER-SALVAJ | BRIGITTE | ANNE ORIANNE
ROODNICK | GWENETH | MICHELLE
ROOT | ANTONY | HOWARD
ROSSITER | JENNIFER | LEE
ROULSTONE | SHARON | ELAINE
RUBIN | JOHN | CHESTER
RUBIN | PATRICIA | BELL
SANTOMENNO | JOSEPH | DAVID
SAREWITZ | ELLEN |
SATO | NAOKO |
SCHAEPPER-USTER | JENNIFER | ANDREA
SCHMED | PATRICK | PETER HUGO
SCHMITT-RHADEN | MATTHIAS |
SCHNEIDER | MARK | RICHARD
SCHNEITER | THOMAS | ARTHUR
SCHOPP | WAYNE | RUSSELL
SEGERBERG | MARIA | EVA
SELE | VERA | MARIA
SENG | MARIA |
SENN | LEA | ALEXANDRA
SENN | MARC | BENJAMIN
SENNETT | MICHEL | LAWRENCE
SERCK-HANSSEN | PETER | OVE
SHASHOUA | MARK | SAMUEL
SHERMAN | ROBERT | STEVEN
SHIMODA | RIYAKO | LILLIAN
SHIMODA | YOICHI |
SHIPLEY | ROBERT | ANTHONY
SIM | JEONG | SUN
SIMON | ANTHONY | NICHOLAS
SIMON | JULIE | ANN
SINN | JUSTINE | TUNG
SITTARO-HARTMANN | MONIKA |
SIU | JIEHOU | RUCHARD
SKEIBROK | AMA | LYNN
SMITH | BONITA | MARIE
SOH | JUN | SUB SUN
SOMMERER-OPPLIGER | BARBARA | BEATRICE
SONG | PIL | SEON
SPADE | KARENINA | SOPHIE
STAMENKOVIC | VLADIMIR | JASON
STARR | SUZANNE | HEDWIG
STARR JR | HAROLD | PAGE
STELTS | STEVEN | ROSS
STERN | NOAM | DAVID
STEWART | NANNETTE | ADELE
STEWART | RAY | TAISHO
STEWART | RICHARD | DAVANT
STIERLIN | SATULIA | VELAMAR
STIMPSON | ROBERT | THOMAS
STIMPSON | YVONNE | ELIZABETH
STRASSER | STEVEN | ZYGMUNT
STRAUMANN | NOAH | REMY
STREUTKER | ERIKA | THERESIA
SUH | HISOO |
SULLIVAN | GEORGIA | BERNICE
SULZER | ERIC | ALFRED
SULZER | FRANK | OLIVIER
SWEENEY | JOHN | KENNETH
SYMONETTE | ROLAND | CAMERON
SZARVAS | ROBERT | STEPHEN
SZEKELY | PETER | JAMES
TAN | YANQIANG |
TANAKA | RYO |
TANG | MARX |
THERN | EDINA | RITTER
THERN JR. | ROBERT | WILLIAM
TIEN | LAUREN | TSAK YEN
TOLOMEO | DIANE |
TOYER | DIANA | MARIA`
TREMAINE | DONALD | GRAHAM
TSAI | MARGARET | MING-TSWN
TSAI | SHIANG | SHUN
TSE | MIFFIE | CHAU MAI
TUNG | LEIGH | MER
TURNBULL | CAROL | ANNE
TWIGGS | KENNETH | ROBERT
TWILLEY | MATTHEW | STEPHEN
UENO | ALFRED | TSUYOSHI
VALENTIN | ANTHONY | ST CLAIR
VAN BILDERBEEK | CONSTANTIJN | HUGO
VAN DUSEN | TIM | DAVID
VAN KAAM | JACOB | HENRICUS
VAN LOON | MENNO | JAAP
VAN RIJSBERGER | ALEXANDER | GREGORY
VANCE | MICHAEL | LEE
VANCE | VICTOR | MORTON
VEGETTI | HELGA | MARGARETHA
VILLANUEVA | CARLOS | J MORALES
VOLKER | CRAIG | ALAN
VON BAEYER | EDWINNA | LOUISE
VON RENNENKAMPFF | JULIA |
WALLACE | IVOR | MALCOLM BRYDEN
WANG | SEE | PING
WANG | WINNIE |
WATANABE | YOKO |
WATKINS | ROBERTO | EDUARDO HEALY
WEBB | LYNETTE | RUTH
WEERASINGHE | ANISA |
WEIDMANN | ERIC | CHARLES
WEINBERG | CHRISTOPHER | ALLEN
WEINBERG | LEEGENA | GAIL
WEISS | ANDREW | CARL
WELLESLEY | GERALD | GRANT
WELLS | DAVID | WINTEMUTE
WHITE | CAROLE | BONNIE
WHITE | MARC | THOMAS
WILCOXON JR | HARDY | CULVER
WILLER | BENJAMIN
WILLER | REBECCA | LYNN
WILLIAMS | CHARLES | MICHAEL
WILSON | TIMOTHY | MICHAEL DOBREE
WOLFE | DANIEL | RICHARD
WOLFE | VICTORIA | RACHEL
WOLFENDEN | ANTHONY |
WOLFENDEN | MEGAN | LISA
WOLFSON | MICHAEL | CRAIG
WONG | ANTHONY | WAY-CHOY
WONG | APRIL | MAY SUM
WONG | MEI-YU | ESTHER
WONG | WEI |
WOO | NANCY | WAI-FUN
WOODS | CARLA | JEANNE
WRIGHT | RICHARD | FREDERIC
WUTSCHERT | CLAUDIA | MARGARET
WYSS | CHRISTINE | ANNA KATHARINA
YANG | SEUNGMEE | CHRISTINE
YI | SANG | UK
YOO | CHUI | KYU
YOSHIZAWA | TAKAHITO |
YOUNG | CAROLINE | ALICE
YOUNG | SHERIDAN | LEE
YOUNG-HERRIES | JULIA | DOBREE
YU | DANIEL | TING YAO
ZAUGG | THOMAS |
ZEITNER | LUKAS | JOHANNES
ZIEGLER | SYLVIA | EILEEN
ZIMMERLI | BARBARA | ANNA
ZWICKY | MARGRIT |

Dated: October 29, 2013.
Dorothy A. Harbison,
Manager, Team 103, Examinations Operations—Philadelphia Compliance Services.

[FR Doc. 2013-27072 Filed 11-12-13; 8:45 am]

BILLING CODE 4830-01-P